FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

Costa Freight, Inc., 17800 Castleton Street, #695, City of Industry, CA 90740. Officers: Peter Sun, Vice President (Qualifying Individuals), James Zhang, President.

Allied Transport System (USA) Inc., 145-43 226th Street, Springfield Gardens, NY 11413. Officers: Thomas J. Serkes, President (Qualifying Individual), David Franschman, Vice President.

DJR Logistics, Inc., 2002 F. Greentree Executive Campus, Lincoln Drive West, Marlton, NJ 08053. Officer: Dennis J. Rowles, President (Qualifying Individual).

Energy Freight Systems, 15935 Morales—Building B, Suite 100, Houston, TX 77032. Officer: Rafael Fernandez, President (Qualifying Individual).

Xpress Freight Services, Inc., 10125 NW 116 Way, Suite 16, Miami, FL 33178. Officers: Richard Teixeira, Treasurer (Qualifying Individual), Annette de Freitas, President.

Non-Vessel Operating Common Carrier and Ocean Freight Forwarder Transportation Intermediary Applicant:

Cargo Partner Network, Inc., 149-40, 182nd Street, Suite B, Jamaica, NY 11413. Officers: Fergal Keenan, Secretary (Qualifying Individual), Robert Galbavy, President.

Ocean Freight Forwarder—Ocean Transportation Intermediary Applicants:

Bank Shipping of P.R., Inc., Caribbean Airport Facilities Bldg., Suite 216, LMM Int'l Airport Cargo Area, Carolina, P.R. 00979, Officers: Carmen J. Martinez, Vice President (Qualifying Individual), Juan Carlos Diaz, President.

Green Freight L.L.C., 1107 First Avenue, Suite 1101, Seattle, WA 98101, Officers: Amy Stocker, Vice President (Qualifying Individual), David Cannon, President.

Dated: August 3, 2001.
Theodore A. Zook,
Assistant Secretary.

[FR Doc. 01-19917 Filed 8-7-01; 8:45 am]

BILLING CODE 6730-01-P